DEPARTMENT OF LABOR

Occupational Safety and Health Administration

National Advisory Committee on Ergonomics, Notice of Meeting

AGENCY: Occupational Safety and Health Administration (OSHA), Labor.

ACTION: Notice.

SUMMARY: The National Advisory Committee on Ergonomics (NACE) is part of the Secretary's comprehensive approach for reducing ergonomics-related injuries and illnesses in the workplace. The committee was convened for the first time on January 22, 2003. This notice schedules the third NACE meeting. The public is encouraged to attend.

DATES: The Committee will meet on Wednesday, September 24, 2003, from 8:30 a.m. until approximately 4 p.m.

ADDRESSES: The Committee will meet at the Quality Hotel & Suites Courthouse Plaza, 1200 N. Courthouse Road, Arlington, Virginia 22201; Telephone (703) 524-4000. Submit comments, views, or statements in response to this notice to MaryAnn Garrahan, Director, Office of Technical Programs and Coordination Activities, OSHA, U.S. Department of Labor, Room N-3655, 200 Constitution Avenue, NW., Washington, DC 20210. Phone: (202) 693-2144; Fax: (202) 693-1644.

FOR FURTHER INFORMATION CONTACT: OSHA, Office of Communications, Room N-3647, U.S. Department of Labor, 200 Constitution Avenue, NW., Washington, DC 20210; Telephone: (202) 693-1999.

SUPPLEMENTARY INFORMATION: NACE was chartered for a two-year term on November 27, 2002, to provide advice and recommendations on ergonomic guidelines, research, and outreach and assistance. The committee has met on January 22, 2003, and May 6-7, 2003, in Washington, DC. This notice announces the third meeting of the committee, which will take place in the Washington, DC commuting area on September 24, 2003.

I. Meeting Agenda

The Committee's working groups on Research, Guidelines, and Outreach and Assistance will meet on the afternoon of September 23. The working groups will report back to the full Committee on September 24th and lead discussions about their respective topics. On the morning of September 24, Assistant Secretary John Henshaw will address the committee. The Committee will continue its discussions of OSHA's approach to addressing ergonomics and hear a presentation about the National Academy of Sciences Ergonomics study.

II. Public Participation

Written data, views, or comments for consideration by NACE on the various agenda items listed above may be submitted, preferably with copies for the NACE members, to MaryAnn Garrahan at the address listed above. Submissions received by September 17, 2003, will be provided to the committee members for consideration. Requests to make oral presentations to the Committee may be granted if time permits. Anyone wishing to make an oral presentation to the Committee should notify MaryAnn Garrahan at the address noted above. The request should state the amount of time desired, the capacity in which the person will appear, and a brief outline of the content of the presentation.

Persons who request an oral presentation may be allowed to speak, as time permits, at the discretion of the Chair of the Advisory Committee.

Persons with disabilities requiring special accommodations should contact Veneta Chatman (telephone: (202) 693-1912; Fax (202) 693-1635) by September 17, 2003.

A transcript of the meeting will be available for inspection and copying in the OSHA Technical Data Center, Room N-2625 (see ADDRESSES section above) telephone: (202) 693-2350.

Authority: This notice was prepared under the direction of John L. Henshaw, Assistant Secretary for Occupational Safety and Health. It is issued under the Federal Advisory Committee Act (FACA) (5 U.S.C. App. 2), GSA's FACA Regulations (41 CFR part 102-3), and DLMS 3 Chapter 1600.

Signed at Washington, DC this 5th day of September, 2003.
John L. Henshaw,
Assistant Secretary.

[FR Doc. 03-23095 Filed 9-9-03; 8:45 am]

BILLING CODE 4510-26-P